DEPARTMENT OF TRANSPORTATION

Federal Aviation Administration

Notice of Intent To Rule on Application To Impose and Use the Revenue From a Passenger Facility Charge (PFC) at Montgomery Regional Airport (Dannelly Field), Montgomery, AL

AGENCY: Federal Aviation Administration (FAA), DOT.

ACTION: Notice of intent to rule on application

SUMMARY: The FAA proposes to rule and invites public comment on the application to impose and use the revenue from a PFC at Montgomery Regional Airport under the provisions of the Aviation Safety and Capacity Expansion Act of 1990 (Title IX of the Omnibus Budget Reconciliation Act of 1990) (Pub. L. 101-508) and Part 158 of the Federal Aviation Regulations (14 CFR part 158).

DATES: Comments must be received on or before January 14, 2005.

ADDRESSES: Comments on this application may be mailed or delivered in triplicate to the FAA at the following address: Jackson Airports District Office, 100 West Cross Street, Suite B; Jackson, MS 39208-2307.

In addition, one copy of any comments submitted to the FAA must be mailed or delivered to Mr. Phil B. Perry, Executive Director of the Montgomery Regional Airport at the following address: 4445 Selma Highway, Montgomery, Al 36108.

Air carriers and foreign air carriers may submit copies of written comments previously provided to the Montgomery Regional Airport under section 158.23 of Part 158.

FOR FURTHER INFORMATION CONTACT: Mr. Roderick T. Nicholson, Program Manager, Jackson Airports District Office, 100 West Cross Street, Suite B; Jackson, MS 39208-2307, 601-664-9884. The application may be reviewed in person at this same location.

SUPPLEMENTARY INFORMATION: The FAA proposes to rule and invites public comment on the application to impose and use the revenue from a PFC at Montgomery Regional Airport under the provisions of the Aviation Safety and Capacity Expansion Act of 1990 (Title IX of the Omnibus Budget Reconciliation Act of 1990) (Pub. L. 101-508) and Part 158 of the Federal Aviation Regulation (14 CFR part 158).

On December 9, 2004, the FAA determined that the application to impose and use the revenue from a PFC submitted by Montgomery Regional Airport was substantially complete within the requirements of section 158.25 of Part 158. The FAA will approve or disapprove the application, in whole or in part, no later than March 24, 2005.

The following is a brief overview of the application.

PFC Application No.: 05-01-C-00-MGM.

Level of the proposed PFC: $4.50.

Proposed charge effective date: March 1, 2005.

Proposed charge expiration date: December 31, 2026.

Total estimated net PFC revenue: $28,652,453.00.

Brief description of proposed project(s): Terminal Renovation Project (Phase 3).

Class or classes of air carriers which the public agency has requested not be required to collect PFCs: Companies belonging to the Large Certificated Route Air Carriers (LCRAC) and Small Certificated Air Carriers (SCAC).

Any person may inspect the application in person at the FAA office listed above under FOR FURTHER INFORMATION CONTACT.

In addition, any person may, upon request, inspect the application, notice and other documents germane to the application in person at the Montgomery Regional Airport.

Issued in Jackson, Mississippi on December 9, 2004.
Mr. Rans D. Black,
Manager, Jackson Airports District Office, Southern Region.

[FR Doc. 04-27458 Filed 12-14-04; 8:45 am]

BILLING CODE 4910-13-M